DEPARTMENT OF THE INTERIOR

Bureau of Land Management

[MT-029-03-1310-DT CBMP]

Notice of Availability of the Montana Statewide Oil and Gas Final Environmental Impact Statement and Proposed Amendment to the Powder River and Billings Resource Management Plans (RMPs); Montana

AGENCY: Bureau of Land Management, Interior.

ACTION: Notice of Availability.

SUMMARY: In accordance with the Federal Land Policy and Management Act, the National Environmental Policy Act, and the Montana Environmental Policy Act, the Bureau of Land Management (BLM) has jointly prepared a Final Environmental Impact Statement (EIS) and proposed Resource Management Plan (RMP) Amendment with the State of Montana (State). The planning area includes oil and gas estate administered by BLM in the Powder River and Billings RMP areas. The Powder River RMP area encompasses the southeastern portion of Montana consisting of Treasure and Powder River Counties, and portions of Rosebud, Big Horn, Carter, and Custer Counties. There are approximately 2,522,950 BLM-administered oil and gas acres in the Powder River RMP area. The Billings RMP area encompasses the south-central portion of Montana consisting of Wheatland, Golden Valley, Musselshell, Sweet Grass, Stillwater, Yellowstone, and Carbon Counties, and the remaining portion of Big Horn County. There are approximately 662,066 BLM-administered oil and gas acres in the Billings RMP area. The BLM-administered oil and gas acreage in Blaine, Park, and Gallatin Counties is not part of the BLM planning effort. The State's planning area is statewide.

DATES: The FEIS and Proposed Plan Amendment will be available for review for 30 calendar days from the Date the Environmental Protection Agency (EPA) publishes its NOA in the Federal Register. In addition, the 30-day protest period on the Final EIS and proposed Amendment will begin at that time. To be considered, the protest must be postmarked no later than the last day of the 30-day protest period and sent according to the instructions provided in the ADDRESSES section of this notice. Although not a requirement, sending a protest by certified mail, return receipt requested, is recommended.

The State of Montana Board of Oil and Gas Conservation (Board) will hold a public hearing on the Final EIS. Future meetings or hearings and any other public involvement activities will be announced in 15 days in advance through public notices, media news releases, mailings, and/or through the Board Web site at http://www.bogc.dnrc.state.mt.us. Following the public hearing, the Board will issue its Record of Decision.

Public Participation: The draft EIS and proposed RMP Amendment were available for public review from February 15, 2002, to May 15, 2002. Written comments were received from agencies, organizations, and individuals. All comments were considered during the preparation of the Final EIS and proposed RMP amendment. Reading copies will be available at local public libraries. Public reading copies will also be available at the following Bureau of Land Management locations: Office of External Affairs, Main Interior Building, Room 6214, 18th and C Streets NW, Washington, DC 20240; External Affairs Office; Montana State Office, 5001 Southgate Drive, Billings, MT 59107; Miles City Field Office, 111 Garryowen Road, Miles City, MT 59301.

The BLM RMP process includes an opportunity for review of BLM's proposed decisions by filing a plan protest with the BLM's Director. Any person or organization that participated in the planning process and has an interest which is, or may be, adversely affected by approval of this proposed Plan Amendment may protest the plan. Careful adherence to the following guidelines will assist in preparing a protest:

Only those persons or organizations that participated in the planning process may protest. A protesting party may raise only those issues that were commented on during the planning process. However, additional issues may be raised at any time and should be directed to the Miles City Field Office for consideration in plan implementation as potential plan amendments or as otherwise appropriate. In order to be considered complete, a protest must contain at a minimum, the following information:

• Name, mailing address, telephone number, and interest of the person filing the protest

• Statement of the issue being protested

• Statement of the portion of the plan being protested

To the extent possible, this should be done by reference to specific pages, paragraphs, sections, tables, and maps in the Final EIS and proposed Amendment. A copy of all documents addressing the issue submitted during the planning process or a reference to the date the issue was discussed for the record. A concise statement explaining why the BLM State Director's decision is believed to be incorrect is a critical part of the protest. It is important to take care to document all relevant facts and reference or cite the planning documents, environmental analysis documents, and available planning records (meeting minutes, summaries, correspondence). A protest without any supporting data will not provide the BLM with sufficient information to assess the protest, and therefore, the Director's review will be based on existing analysis and supporting data.

ADDRESSES: All protests on BLM's proposed decisions must be filed in writing to: (Regular Mail) Director, Bureau of Land Management, Attention: Ms. Brenda Williams, Protest Coordinator, PO Box 66538, Washington DC 20035; or (Overnight Mail) Director, Bureau of Land Management, Attention: Ms. Brenda Williams, Protest Coordinator, 1620 L Street, NW., Room 1075, Washington, DC 20036.

SUPPLEMENTARY INFORMATION: The Final EIS and proposed plan amendments are a joint effort between the BLM and the State of Montana. They are being prepared to analyze impacts to lands and resources as a result of proposed oil and gas development, primarily coal bed methane. The current Powder River and Billings RMPs, as amended by BLM's 1994 Oil and Gas Amendment of the Billings, Powder River, and South Dakota RMPs, support limited conventional oil and gas development and limited coal bed methane exploration and production. About 9,500 conventional oil and gas wells (all ownership categories) are located in the planning area. The Final EIS indicates that the 20-year expansion in development could result in the drilling of up to 26,000 coalbed methane wells (8,500 to 16,400 of which are expected to be producing wells) and 450 to 1,775 conventional oil and gas wells within the Billings and Powder River RMP areas.

The Final EIS and proposed amendments are being prepared to analyze this increased interest in oil and gas activity. The five alternatives developed by BLM and the State present a range of management scenarios to address the issues: Alternative A—existing management (No Action); Alternative B—emphasize soil, water, air, vegetation, wildlife, and cultural resources protection; Alternative C—emphasize coal bed methane development; Alternative D—encourage coal bed methane exploration and development while maintaining existing land uses; and Alternative E—the BLM and State Preferred Alternative, which combines features of Alternatives B through D and manages development of CBM in an environmentally sound manner. The Final EIS discloses the environmental consequences of each alternative.

A copy of the Final EIS and proposed Amendment has been sent to all individuals, agencies, and groups who have expressed interest or as required by regulation or policy. Copies are also available upon request from the BLM at the address listed above.

Four designated cooperating agencies helped BLM and the State prepare the EIS: the Bureau of Indian Affairs, the United States Department of Energy, the Crow Tribe, and the United States Environmental Protection Agency. Consultation with both the Crow and Northern Cheyenne tribes has taken place throughout the process to gather their input and concerns. Consultation with FWS has occurred, and the BLM has also met with individuals from the general public, special interest groups, industry, and local governments upon their request. The Northern Cheyenne Tribe has declined to become a cooperating agency, but was invited by BLM to participate in all cooperating agency activities.

The BLM and the State conducted public hearings across Montana on the Draft EIS and Amendment. The time and locations of the hearings were announced in local news releases.

FOR FURTHER INFORMATION CONTACT: Mary Bloom, Coal Bed Methane Program Manager, Bureau of Land Management, 111 Garryowen Road, Miles City, MT 59301, (406) 233-3649.

Dated: December 17, 2002.
Thomas P. Lonnie,
Acting State Director.

[FR Doc. 03-1081 Filed 1-16-03; 8:45 am]

BILLING CODE 4310-$$-P